DEPARTMENT OF THE INTERIOR

Fish and Wildlife Service

Souris River Basin National Wildlife Refuges, North Dakota

AGENCY: Fish and Wildlife Service, Interior.

ACTION: Notice of availability; request for comments.

SUMMARY: The U.S. Fish and Wildlife Service (Service) announces that the draft Comprehensive Conservation Plan (CCP) and Environmental Assessment (EA) for the Souris River Basin National Wildlife Refuges (Refuges) is available. This draft CCP/EA describes how the Service intends to manage these Refuges for the next 15 years. We request public comment.

DATES: We must receive written comments on the draft CCP/EA by March 19, 2007. Submit comments by one of the methods under ADDRESSES.

ADDRESSES: Please provide written comments to Toni Griffin, Planning Team Leader, Division of Refuge Planning, Branch of Comprehensive Conservation Planning, Mountain-Prairie Region, P.O. Box 25486, Denver Federal Center, Denver, Colorado 80225-0486, or electronically to toni_griffin@fws.gov. A copy of the CCP may be obtained by writing to U.S. Fish and Wildlife Service, Division of Refuge Planning, 134 Union Boulevard, Suite 300, Lakewood, Colorado 80228; or by download from http://mountain-prairie.fws.gov/planning.

FOR FURTHER INFORMATION CONTACT: Toni Griffin, 303-236-4378 (phone); 303-236-4792 (fax); toni_griffin@fws.gov (e-mail).

SUPPLEMENTARY INFORMATION: The Souris River Basin is home to three national wildlife refuges: The Des Lacs National Wildlife Refuge, located along 28 miles of the Des Lacs River; the J. Clark Salyer National Wildlife Refuge, located along 50 miles of the Souris River; and the Upper Souris National Wildlife Refuge, located along 35 miles of the upper Souris River. The Refuges are collectively known as the Souris River Basin National Wildlife Refuges.

The Refuges were established by Executive Order in 1935. The purpose of each Refuge is for a “refuge and breeding ground for migratory birds and other wildlife.”

The Refuges are located in a critical area of the Central Flyway, providing nesting and breeding habitat for migrating and nesting waterfowl. The J. Clark Salyer National Wildlife Refuge, in particular, has developed into one of the most important duck production areas in the United States.

The American Bird Conservancy recognizes all three Refuges as “Globally Important Bird Areas.” In addition, J. Clark Salyer National Wildlife Refuge is designated as a regional shorebird site in the “Western Hemisphere Shorebird Reserve Network.” Lake Darling, located on Upper Souris National Wildlife Refuge, is designated as a critical habitat for the federally threatened piping plover.

Representing a comprehensive collection of all North Dakota plant communities, these Refuges could contain the only remaining representatives of drift plain prairie, considered a threatened resource.

This draft CCP/EA identifies and evaluates four alternatives for managing the Refuges for the next 15 years. Alternative A, the No Action alternative, reflects the current management of the Refuges. It provides the baseline against which to compare the other alternatives. Refuge habitats would continue to be managed on an opportunistic schedule that may maintain—or most likely would result in further decline in—the diversity of vegetation and wildlife species. Des Lacs National Wildlife Refuge and J. Clark Salyer National Wildlife Refuge would continue to perform only limited research and would monitor only long-term vegetation change. Upper Souris National Wildlife Refuge would continue to perform no scientific research or monitoring. Outreach, partnerships, and priority public uses (fishing, hunting, wildlife observation, wildlife photography, environmental education, and interpretation) would continue at present levels.

Alternative B is the Service's proposed action and basis for the draft CCP. This alternative would prioritize habitats with high probability of restoration for management. Other habitats may only be partially restored or minimally managed. Research and monitoring would increase, and scientific knowledge required to restore upland and wetland plant and animal communities would be shared (with the public and other resource managers). Some visitor services would be expected to decrease as some staff and funding shift to habitat restoration. Environmental education would increase.

In Alternative C, waterfowl habitat management and waterfowl production would be emphasized over other refuge programs. Research and monitoring would focus on actions that enhance waterfowl habitat, increase waterfowl nest densities, and increase nest and brood survival. Visitor service programs that use or enhance waterfowl-related activities, such as hunting, wildlife viewing, or environmental education, would be emphasized over other activities.

Management under Alternative D would restore, to the fullest extent, ecological processes, vegetation communities, and wildlife characteristic of the presettlement period. Research and monitoring efforts would focus on strategies that enhance native plant and animal communities. Public uses that are compatible with or that support restoration efforts would be emphasized. Interpretation and environmental education would be expanded, with an emphasis on natural plant and animal communities, ecological processes, and restoration.

The proposed action (Alternative B) was selected because it best meets the purpose and goals of the Refuges, as well as the goals of the National Wildlife Refuge System. The proposed action will also benefit federally listed species, shore birds, migrating and nesting waterfowl, and neotropical migrants. Environmental education and partnerships will result in improved wildlife-dependent recreational opportunities. Cultural and historical resources as well as federally listed species will be protected.

Opportunity for public input will be provided at a public meeting to be scheduled soon. The specific date and time for the public meeting is yet to be determined, but will be announced via local media and a newsletter. All information provided voluntarily by mail, by phone, or at public meetings (e.g., names, addresses, letters of comment, input recorded during meetings) becomes part of the official public record. If requested under the Freedom of Information Act by a private citizen or organization, the Service may provide copies of such information. The environmental review of this project will be conducted in accordance with the requirements of the National Environmental Policy Act (NEPA) of 1969, as amended (42 U.S.C. 4321 et seq.); NEPA Regulations (40 CFR parts 1500-1508); other appropriate Federal laws and regulations; Executive Order 12996; the National Wildlife Refuge System Improvement Act of 1997; and Service policies and procedures for compliance with those laws and regulations.

Dated: October 3, 2006.
James J. Slack,
Deputy Regional Director, Region 6, Denver, CO.

Editorial Note: This document was received at the Office of the Federal Register on January 30, 2007.

[FR Doc. E7-1712 Filed 2-1-07; 8:45 am]

BILLING CODE 4310-55-P